DEPARTMENT OF AGRICULTURE

Food Safety and Inspection Service

[Docket No. FSIS-2013-0011]

Codex Alimentarius Commission: Meeting of the Codex Committee on Contaminants in Foods

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services, are sponsoring a public meeting on March 12, 2013. The objective of the public meeting is to provide information and receive public comments on agenda items and draft U.S. positions that will be discussed at the 7th Session of the Codex Committee on Contaminants in Foods (CCCF) of the Codex Alimentarius Commission (Codex), which will be held in Moscow, Russian Federation, April 8-12, 2013. The Under Secretary for Food Safety and FDA recognize the importance of providing interested parties the opportunity to obtain background information on the 7th Session of the CCCF and to address items on the agenda.

DATES: The public meeting is scheduled for Tuesday, March 12, 2013, from 10:00 a.m. to 12:00 noon.

ADDRESSES: The public meeting will be held at the Harvey W. Wiley Federal Building, Room 1A-001, FDA, Center for Food Safety and Applied Nutrition (CFSAN), 5100 Paint Branch Parkway, College Park, MD 20740. Documents related to the 7th Session of the CCCF will be accessible via the World Wide Web at http://www.codexalimentarius.org/meetings-reports/en/.

Nega Beru, U.S. Delegate to the 7th Session of the CCCF invites interested U.S. parties to submit their comments electronically to the following email address henry.kim@fda.hhs.gov.

Registration: Attendees may register electronically at the same email address provided above by March 8, 2013. The meeting will be held in a Federal building; therefore, early registration is encouraged as it will expedite entry into the building and its parking area. You should also bring photo identification and plan for adequate time to pass through security screening systems. If you require parking, please include the vehicle make and tag number when you register. Attendees that are not able to attend the meeting in-person but wish to participate may do so by phone.

Call in Number: If you wish participate in the public meeting for the 7th Session of CCCF by telephone conference, please use the call in number and participant code listed below:

Call in Number: 1-888-858-2144.

Participant Code: 6208658.

FOR FURTHER INFORMATION CONTACT: Henry Kim, Ph.D., Office of Food Safety, CFSAN/FDA, HFS-317, 5100 Paint Branch Parkway, College Park, MD 20740, Telephone: (240) 402-2023, Fax: (301) 436-2632, email: henry.kim@fda.hhs.gov or Barbara McNiff, U.S. Codex Office, 1400 Independence Avenue, Washington, DC; Telephone (202) 690-4719, email: Barbara.McNiff@fsis.usda.gov.

FOR FURTHER INFORMATION ABOUT THE PUBLIC MEETING CONTACT: Henry Kim, Ph.D., Office of Food Safety, CFSAN/FDA, HFS-317, 5100 Paint Branch Parkway, College Park, MD 20740, Telephone: (240) 402-2023, Fax: (301) 436-2632, email: henry.kim@fda.hhs.gov.

SUPPLEMENTARY INFORMATION:

Background

Codex was established in 1963 by two United Nations organizations, the Food and Agriculture Organization (FAO) and the World Health Organization (WHO). Through adoption of food standards, codes of practice, and other guidelines developed by its committees, and by promoting adoption and implementation by governments, Codex seeks to protect the health of consumers and ensure that fair practices are used in the food trade.

The CCCF is responsible for:

(a) Establishing or endorsing permitted maximum levels, and where necessary revising existing guideline levels for contaminants and naturally occurring toxicants in food and feed;

(b) Preparing priority lists of contaminants and naturally occurring toxicants for risk assessment by the Joint FAO/WHO Expert Committee on Food Additives (JECFA);

(c) Considering and elaborating methods of analysis and sampling for the determination of contaminants and naturally occurring toxicants in food and feed;

(d) Considering and elaborating standards or codes of practice for related subjects; and

(e) Considering other matters assigned to it by Codex in relation to contaminants and naturally occurring toxicants in food and feed.

The Committee is chaired by The Netherlands.

Issues To Be Discussed at the Public Meeting

The following items on the Agenda for the 7th Session of the CCCF will be discussed during the public meeting:

• Matters Referred to the CCCF by the Codex Alimentarius Commission or its subsidiary bodies

• Matters of Interest Arising from FAO and WHO (including JECFA)

• Matters of Interest Arising from other International Organizations

• Proposed Draft Maximum Levels for Deoxynivalenol (DON) in Cereals and Cereal-based Products and Associated Sampling Plans

• Editorial Amendments to the General Standard for Contaminants and Toxins in Foods and Feeds (GSCTFF)

• Proposed Draft Code of Practice for Weed Control to Prevent and Reduce Pyrrolizidine Alkaloid Contamination in Food and Feed

• Proposed Draft Revision of Maximum Levels for Lead in selected commodities in the General Standard for Contaminants and Toxins in Food and Feed

• Proposed Draft Annex for Prevention and Reduction of Aflatoxins and Ochratoxin A Contamination in Sorghum to the Code of Practice for the Prevention and Reduction of Mycotoxin Contamination in Cereals

• Proposed Draft Code of Practice for the Prevention and Reduction of Ochratoxin A contamination in Cocoa

• Proposed Draft Code of Practice to Reduce the Presence of Hydrocyanic Acid in Cassava and Cassava Products

• Proposed Draft Maximum Levels for Hydrocyanic Acid in Cassava and Cassava Products

• Proposed Draft revision of the guideline levels for radionuclides in food

• Discussion paper on the development of a code of practice for the prevention and reduction of arsenic contamination in Rice

• Discussion paper on control measures for fumonisions in maize and maize products

• Discussion paper on management practices to reduce exposure of food-producing animals (livestock and bees) to pyrrolizidine alkaloids; and to reduce presence of Pyrroliaidine alkaloids in commodities (raw and processed)

• Discussion paper on the review of the guideline level for methylmercury in fish and predatory fish

• Discussion paper on aflatoxins in cereals

• Priority List of Contaminants and Naturally Occurring Toxicants proposed for evaluation by JECFA

Each issue listed will be fully described in documents distributed, or to be distributed, by the Secretariat prior to the meeting. Members of the public may access or request copies of these documents (see ADDRESSES).

Public Meeting

At the March 12, 2013 public meeting, draft U.S. positions on the agenda items will be described and discussed, and attendees will have the opportunity to pose questions and offer comments. Written comments may be offered at the meeting or sent to Dr. Henry Kim for the 7th Session of the CCCF (see ADDRESSES). Written comments should state that they relate to activities of the 7th Session of the CCCF.

Additional Public Notification

Public awareness of all segments of rulemaking and policy development is important. Consequently, in an effort to ensure that minorities, women, and persons with disabilities are aware of this notice, FSIS will announce it on-line through the FSIS Web page located at http://www.fsis.usda.gov/regulations/2006_Notices_Index/. FSIS also will make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an email subscription service which provides automatic and customized access to selected food safety news and information. This service is available at http://www.fsis.usda.gov/news_and_events/email_subscription. Options range from recalls to export information to regulations, directives and notices. Customers can add or delete subscriptions themselves and have the option to password protect their account.

USDA Nondiscrimination Statement

The U.S. Department of Agriculture (USDA) prohibits discrimination in all its programs and activities on the basis of race, color, national origin, gender, religion, age, disability, political beliefs, sexual orientation, and marital or family status. (Not all prohibited bases apply to all programs).

Persons with disabilities who require alternative means for communication of program information (Braille, large print, audiotape, etc.) should contact USDA's Target Center at 202-720-2600 (voice and TTY).

To file a written complaint of discrimination, write USDA Office of the Assistant Secretary for Civil Rights, 1400 Independence Avenue SW., Washington, DC 20250-9410 or call 202-720-5964 (voice and TTY). USDA is an equal opportunity provider and employer.

Done at Washington, DC, on February 20, 2013.
Mary Frances Lowe,
U.S. Manager for Codex Alimentarius.

[FR Doc. 2013-04471 Filed 2-26-13; 8:45 am]

BILLING CODE 3410-DM-P